ENVIRONMENTAL PROTECTION AGENCY

[ER-FRL-6666-5]

Environmental Impacts Statements; Notice of Availability

Responsible Agency: Office of Federal Activities, General Information (202) 564-7167 or http://www.epa.gov/compliance/nepa/.

Weekly receipt of Environmental Impact Statements

Filed 8/08/2005 through 8/12/2005

Pursuant to 40 CFR 1506.9.

EIS No. 20050333, Final EIS, FRC, 00, Piceance Basin Expansion Project, Construction and Operation of a New Interstate Natural Gas Pipeline System, Wamsutter Compressor Station to Interconnections Greasewood Compressor Station, Rio Blanco County, CO and Sweetwater County, WY, Wait Period Ends: 09/19/2005, Contact: Thomas Russo 1-866-208-3372.

EIS No. 20050334, Final EIS, DOE, MT, South Fork Flathead Watershed Westslope Cuttroat Trout Conservation Program, Preserve the Genetic Purity of the Westslope Cuttroat Trout Population, Flathead National Forest, Flathead River, Flathead, Powell and Missoula Counties, MT, Wait Period Ends: 09/19/2005, Contact: Colleen Spiering 503-230-5756.

EIS No. 20050335, Final Supplement, AFS, MT, Gallatin National Forest, Updated Information, Replaces the Effects Analysis for the Northern Goshawk in the Main Boulder Fuels Reduction Project (FEIS), Implementation, Gallatin National Forest, Big Timber Ranger District, Sweet Grass and Park Counties, MT , Wait Period Ends: 09/19/2005, Contact: Barbara Ping 406-522-2558.

EIS No. 20050336, Final EIS, FAA, VA, Washington Dulles International Airport Project, Acquisition of Land, Construction and Operation, IAD 2004 Airport Layout Plan (ALP), Dulles, VA, Wait Period Ends: 09/19/2005, Contact: Joseph Delia 703-661-1358.

EIS No. 20050337, Final EIS, AFS, CA, Empire Vegetation Management Project, Reducing Fire Hazards, Harvesting of Trees Using Group-Selection (GS) and Individual Trees Selection (ITS) Methods, Mt. Hough Ranger District, Plumas National Forest, Plumas County, CA, Wait Period Ends: 09/19/2005, Contact: Gary Rotta 530-283-0555.

EIS No. 20050338, Final EIS, FHW, OH, OH-823, Portsmouth Bypass Project, Transportation Improvements, Funding and U.S. Army COE Section 404 Permit, Appalachian Development Highway, Scioto County, OH, Wait Period Ends: 09/19/2005, Contact: Dennis A. Decker 614-280-6896.

EIS No. 20050339, Draft EIS, DOA, SD, Deerfield Project Area, Proposes to Implement Multiple Resource Management Actions, Mystic Ranger District, Black Hills National Forest, Pennington County, South Dakota, Comment Period Ends: 10/03/2005, Contact: Robert Thompson 605-343-1567.

EIS No. 20050340, Draft EIS, AFS, UT, West Fork Blacks Fork Allotment Management Plan, Proposes to Authorize Continued Livestock Grazing, Township 1 North, Range 11 East, Salt Lake Principle Merida, Evanston Ranger District, Wasatch-Cache National Forest, Summit County, UT, Comment Period Ends: 10/03/2005, Contact: Richard Zobell 307-782-6555.

EIS No. 20050341, Final EIS, COE, 00, Arkansas River Navigation Study, To Maintain and Improve the Navigation Channel in Order to Enhance Commercial Navigation on the McCellan Kerr Arkansas River Navigation System (MKARNS), Several Counties, AR and Several Counties, OK, Wait Period Ends: 09/19/2005, Contact: Renee Wright 501-324-6139.

EIS No. 20050342, Draft EIS, NOA, 00, Consolidated Atlantic Highly Migratory Species Fishery Management Plan for Atlantic Tunas, Swordfish, and Shark and the Atlantic Billfish Fishery Management Plan, Implementation, Atlantic Coast, Caribbean and Gulf of Mexico, Comment Period Ends: 10/03/2005, Contact: Karyl Brewster Geisz 301-713-2347.

Amended Notices

EIS No. 20050044, Draft EIS, BLM, WY, Jonah Infill Drilling Project, Propose to Expand Development of Natural Gas Drilling, Sublette County, WY, Comment Period Ends: 10/07/2005, Contact: Carol Kruse 307-367-5352. Revision of Notice Published in Federal Register 02/11/2005: This Comment Period is Only for the Supplement Air Quality Information Portion; the Comment Period will end on 10/07/2005.

EIS No. 20050216, Draft EIS, IBR, CA, San Luis Drainage Feature Re-evaluation Project, Provide Agricultural Drainage Service to the San Luis Unit, Several Counties, CA, Comment Period Ends: 9/01/2005, Contact: Gerald Robbins 916-978-5061. Revision of Notice Published in Federal Register 6/03/2005: Extending the Comment Period from 8/03/2005 to 9/01/2005.

EIS No. 20050231, Draft EIS, AFS, MT, Gallatin National Forest, Proposed Travel Management Plan, Implementation, Forest Land and Resource Management, Madison, Gallatin, Park, Meagher, Sweetgrass and Carbon Counties, MT, Comment Period Ends: 9/02/2005, Contact: Steve Christiansen 406-587-6750 Revision of Notice Published in Federal Register 6/17/2005: Extending Comment Period from 8/01/2005 to 9/02/2005.

EIS No. 20050325, Draft EIS, AFS, WV,

Programmatic—Monongahela National Forest Plan Revision, Proposes to Revise Land and Resource Management Plan, Barbour, Grant, Greebrier, Nicholas, Pendleton, Pocahontab, Preston, Randolph, Tucker, Webster Counties, WV, Comment Period Ends: 11/14/2005, Contact: Clyde Thompson 304-636-1800.

Revision of Notice Published in Federal Register: 8/12/2005: Correction to Comment Period from 9/26/2005 to 11/14/2005.

Dated: August 16, 2005.
Robert W. Hargrove,
Director, NEPA Compliance Division, Office of Federal Activities.

[FR Doc. 05-16473 Filed 8-18-05; 8:45 am]

BILLING CODE 6560-50-P